FEDERAL COMMUNICATIONS COMMISSION

47 CFR Parts 25 and 27

[WT Docket No. 07-293; IB Docket No. 95-91; GEN Docket No. 90-357; RM-8610; FCC 10-82]

Operation of Wireless Communications Services in the 2.3 GHz Band; Establishment of Rules and Policies for the Digital Audio Radio Satellite Service in the 2310-2360 MHz Frequency Band

AGENCY: Federal Communications Commission.

ACTION: Final rule; announcement of effective date.

SUMMARY: In this document, the Commission announces that certain rules adopted in the Operation of Wireless Communications Services in the 2.3 GHz Band, WT Docket No. 07-293; Establishment of Rules and Policies for the Digital Audio Radio Satellite Service in the 2310-2360 MHz Frequency Band (WCS and SDARS) proceeding, to the extent it contained information collection requirements that required approval by the Office of Management and Budget (OMB) was approved, September 26, 2011.

DATES: Sections 27.14(p)(7), 27.72(b), 27.72(c), 27.73(a), and 27.73(b) of the Commission's rules published at 75 FR 45058, August 2, 2010, are effective October 31, 2011.

Sections 25.202(h)(3), 25.214(d)(2), and 27.53(a)(10) will be enforced beginning October 31, 2011.

FOR FURTHER INFORMATION CONTACT: Linda Chang, Federal Communications Commission, Wireless Telecommunications Bureau, 445 12th St. SW., Washington, DC 20554 at (202) 418-1339.

SUPPLEMENTARY INFORMATION:

1. On May 20, 2010, the Commission published in the Federal Register, the summary of a Report and Order and Second Report and Order, which stated that upon OMB approval, it would publish in the Federal Register a document announcing the effective date. On September 26, 2011 the OMB approved, for a period of three years, the information collection requirements contained in sections 25.202(h)(3), 25.214(d)(2), 27.14(p)(7), 27.53(a)(10), 27.72(b), 27.72(c), 27.73(a), and 27.73(b) of the Commission's rules.¹

¹ The summary of the Report and Order and Second Report and Order, published August 2, 2010, did not list 47 CFR 25.202(h)(3), 47 CFR 25.214(d)(2), and 47 CFR 27.53(a)(10) among the rules requiring OMB approval. However, because 47 CFR 25.202(h)(3), 25.214(d)(2), and 27.53(a)(10) contain information collection requirements that can not be enforced without OMB approval, the Commission sought OMB clearance for these rules.

2. On September 26, 2011, OMB approved the public information collection associated with these rule changes under OMB Control No. 3060-1159.

Federal Communications Commission.
Marlene H. Dortch,
Secretary.

[FR Doc. 2011-27454 Filed 10-28-11; 8:45 am]

BILLING CODE 6712-01-P